DEPARTMENT OF ENERGY

Notice of Request for Information (RFI) on Designing Equitable, Sustainable, and Effective Revolving Loan Fund Programs

AGENCY: Office of Energy Efficiency and Renewable Energy, Department of Energy (DOE).

ACTION: Request for information (RFI).

SUMMARY: The U.S. Department of Energy (DOE) invites public comment on its request for information (RFI) regarding promising, innovative, and best practices for designing revolving loan funds (RLFs). The purpose of the RFI is to collect stakeholder feedback to inform DOE's program guidance for States developing RLFs with funding made available through the Infrastructure Investment and Jobs Act, “Energy efficiency revolving loan fund capitalization grant program.”

DATES: Responses to the RFI must be received by no later than 11:59 p.m. EST on May 6th, 2022.

ADDRESSES: Interested parties are to submit comments electronically to EERevolvingLoanFund@ee.doe.gov. Include “Designing Equitable, Sustainable, and Effective Revolving Loan Fund Programs RFI Response” in the subject line of the email. Responses must be provided as attachments to an email. Responses must be provided as a Microsoft Word (.docx) attachment to the email, and no more than 5 pages in length, 12-point font, 1-inch margins. If possible, copy and paste the RFI sections as a template for your responses. It is recommended that attachments with file sizes exceeding 25MB be compressed (i.e., zipped) to ensure message delivery. Only electronic responses will be accepted. The complete RFI document is located at https://eere-exchange.energy.gov/.

FOR FURTHER INFORMATION CONTACT: Questions may be addressed to EERevolvingLoanFund@ee.doe.gov or to Julie Howe at 720-356-1628 or julie.howe@ee.doe.gov. Further instruction can be found in the RFI document posted on EERE Exchange at https://eere-exchange.energy.gov/.

SUPPLEMENTARY INFORMATION: The Department of Energy's (DOE) Weatherization and Intergovernmental Programs Office, in coordination with DOE's Building Technologies Office, seeks input on promising, innovative, and best practices for designing revolving loan funds (RLFs) from private lenders, investors, labor groups, community development organizations, environmental justice organizations, disadvantaged communities, States, local governments, and other energy system stakeholders. Pursuant to the implementation of section 40502 of the Infrastructure Investment and Jobs Act, Public Law 117-58, DOE is seeking to create program guidance that will assist States, as well as potentially other entities,¹ in designing, managing, and improving RLFs. (42 U.S.C. 18792)

¹ Under DOE's State Energy Program regulations, a “State” is defined as “a State, the District of Columbia, Puerto Rico, or any territory or possession of the United States.” 40 CFR 420.2.

Responses from this request for information (RFI) will be used to inform DOE's program support documentation to help States in creating, augmenting, or refining their RLFs to drive successful and equitable outcomes. This documentation may also be used to support States in drafting their applications to DOE or their own program design documentation.

Specific questions can be found in the RFI available at: https://eere-exchange.energy.gov/. This is solely a request for information and not a Funding Opportunity Announcement. DOE is not accepting applications at this time.

Confidential Business Information: Pursuant to 10 CFR 1004.11, any person submitting information that he or she believes to be confidential and exempt by law from public disclosure should submit via email two well-marked copies: One copy of the document marked “confidential” including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority: This document of the Department of Energy was signed on March 23, 2022, by Kelly J. Speakes-Backman, Principal Deputy Assistant Secretary for Energy Efficiency and Renewable Energy pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 24, 2022.
Treena V. Garrett,
Federal Register Liaison Officer, U.S. Department of Energy.

[FR Doc. 2022-06584 Filed 3-28-22; 8:45 am]

BILLING CODE 6450-01-P